DEPARTMENT OF ENERGY

Federal Energy Regulatory Commission

Combined Notice of Filings #1

July 15, 2005.

Take notice that the Commission received the following electric rate filings.

Docket Numbers: ER01-1011-006.

Applicants: Redbud Energy LP.

Description: Redbud Energy LP submits Second Revised Sheet 1 and First Revised Sheets No. 1 A to its FERC Electric Tariff, Original Volume No.1, in compliance with the Commission's 6/16/05 letter order, 111 FERC 61,397 (2005).

Filed Date: 7/12/2005.

Accession Number: 20050714-0185.

Comment Date: 5 p.m. Eastern Time on Tuesday, August 2, 2005.

Docket Numbers: ER05-903-001.

Applicants: Consolidated Edison Energy Massachusetts, Inc.

Description: Consolidated Edison Energy Massachusetts, Inc. submits an amendment to its 4/29/05 filing of a cost-of-service Reliability Must Run Agreement with ISO New England, Inc., in response to the Commission's 6/10/05 deficiency letter in Docket No. ER05-903-000.

Filed Date: 7/11/2005

Accession Number: 20050714-0059.

Comment Date: 5 p.m. Eastern Time on Monday, August 1, 2005.

Docket Numbers: ER05-1206-000.

Applicants: Alliance Power Marketing, Inc.

Description: Alliance Power Marketing, Inc. submits a notice of cancellation of its market rate tariff, FERC Electric Rate Schedule No. 1.

Filed Date: 7/7/2005.

Accession Number: 20050711-0166.

Comment Date: 5 p.m. Eastern Time on Thursday, July 28, 2005.

Docket Numbers: ER05-1208-000.

Applicants: Southwest Power Pool, Inc.

Description: Southwest Power Pool, Inc. submits an executed service agreement for network integration transmission service and an executed network operating agreement with Southwestern Public Service Company to serve West Texas Municipal Power Agency load located at the City of Lubbock, Texas, designated as Service Agreement No. 1139.

Filed Date: 7/12/2005.

Accession Number: 20050714-0190.

Comment Date: 5 p.m. Eastern Time on Tuesday, August 2, 2005.

Docket Numbers: ER05-1209-000.

Applicants: PJM Interconnection L.L.C.

Description: PJM Interconnection LLC submits revisions to its open access transmission tariff concerning its proposal to amend Article 10 of the PJM Open Access Transmission Tariff .

Filed Date: 7/12/2005.

Accession Number: 20050714-0189.

Comment Date: 5 p.m. Eastern Time on Tuesday, August 2, 2005.

Docket Numbers: ER98-4289-005.

Applicants: Montana-Dakota Utilities Company.

Description: Montana-Dakota Utilities Company submits an amendment to its updated market power analysis filed 10/15/04, as amended on 5/6/05, in response to the Commission's deficiency letter issued 6/3/05.

Filed Date: 7/5/2005.

Accession Number: 20050714-0056.

Comment Date: 5 p.m. Eastern Time on Tuesday, July 26, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3898 Filed 7-20-05; 8:45 am]

BILLING CODE 6717-01-P